COMMISSION ON CIVIL RIGHTS

Meeting; Sunshine Act Notice

AGENCY: United States Commission on Civil Rights.

ACTION: Amended Notice of Business Meeting.

DATE AND TIME: Friday, May 16, 2014; 9:30 a.m. E.S.T.

PLACE: 1331 Pennsylvania Ave. NW., Suite 1150, Washington, DC 20425.

Meeting Agenda

I. Approval of Agenda

II. Program Planning

• Discussion and Vote on Part A of the briefing report: Sex Trafficking: A Gender-Based Civil Rights Violation

• Discussion and Vote on Part A of the briefing report: Engagement with Arab and Muslim American Communities Post 9/11

• Consideration and Vote on Commission Resolution Commemorating the Anniversary of the Civil Rights Act of 1964

• Consideration and Vote on Press Release commemorating the 60th Anniversary of Brown v. Board of Education

III. Management and Operations

• Staff Director's Report

IV. State Advisory Committee (SAC) Appointments

• Kansas

• Utah

Motion & Vote to Close Meeting at 10:56 a.m.

Meeting Was Reopened at 11:17 a.m.

• Connecticut

• Vermont

V. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: May 20, 2014.
Marlene Sallo,
Staff Director.

[FR Doc. 2014-12058 Filed 5-21-14; 11:15 am]

BILLING CODE 6335-01-P